DEPARTMENT OF COMMERCE

International Trade Administration

[A-351-843, A-570-029, A-533-865, A-588-873, A-580-881, A-412-824, C-533-866, C-351-844]

Cold-Rolled Steel Flat Products From Brazil, China, India, Japan, the Republic of Korea, and the United Kingdom: Continuation of Antidumping Duty Orders (China, Japan, Korea, and UK), Continuation of Antidumping and Countervailing Duty Orders (India), and Revocation of Antidumping and Countervailing Duty Orders (Brazil)

AGENCY: Enforcement and Compliance, International Trade Administration, Department of Commerce.

SUMMARY: As a result of the determinations by the U.S. Department of Commerce (Commerce) and the U.S. International Trade Commission (ITC) that revocation of the antidumping duty (AD) and countervailing duty (CVD) orders on certain cold-rolled steel flat products (cold-rolled steel) from the People's Republic of China (China), India, Japan, the Republic of Korea (Korea), and the United Kingdom (UK) would likely lead to continuation or recurrence of dumping, net countervailable subsidies, and material injury to an industry in the United States, Commerce is publishing a notice of continuation of the AD and CVD orders. In addition, as a result of the ITC's determination that revocation of the AD and CVD orders on certain cold-rolled steel from Brazil is not likely to lead to continuation or recurrence of material injury to an industry in the United States, Commerce is revoking the AD and CVD orders on cold-rolled steel from Brazil.

DATES: Applicable August 25, 2022.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On July 14 and September 20, 2016, Commerce published in the Federal Register the China and Japan AD Orders and the Brazil, India, Korea, and United Kingdom AD Orders, respectively.¹ On September 20, 2016, Commerce published in the Federal Register the India and Brazil CVD Orders (collectively with AD Orders, Orders).² On June 1, 2021, Commerce published the notice of initiation of the sunset reviews of the Orders, pursuant to section 751(c) of the Tariff Act of 1930, as amended (the Act).³ Commerce conducted expedited (120-day) sunset reviews of the Orders, pursuant to section 751(c)(3)(B) of the Act and 19 CFR 351.218(e)(1)(ii)(C)(2). As a result of its reviews, Commerce determined pursuant to sections 751(c)(1) and 752(c) of the Act, that revocation of the Orders would likely lead to continuation or recurrence of dumping and countervailable subsidies. Commerce also notified the ITC of the magnitude of the dumping margins and net countervailable subsidies likely to prevail should the Orders be revoked.⁴

¹ See Certain Cold-Rolled Steel Flat Products from Japan and the People's Republic of China: Antidumping Duty Orders, 81 FR 45956 (July 14, 2016) (China and Japan AD Orders); see also Certain Cold-Rolled Steel Flat Products from Brazil, India, the Republic of Korea, and the United Kingdom: Amended Final Affirmative Antidumping Determinations for Brazil and the United Kingdom and Antidumping Duty Orders, 81 FR 64432 (September 20, 2016) (Brazil, India, Korea, and United Kingdom AD Orders).

² See Certain Cold-Rolled Steel Flat Products from Brazil, India, and the Republic of Korea: Amended Final Affirmative Countervailing Duty Determination and Countervailing Duty Order (the Republic of Korea) and Countervailing Duty Orders (Brazil and India), 81 FR 64436 (September 20, 2016) (India and Brazil CVD Orders).

³ See Initiation of Five-Year (Sunset) Review, 86 FR 29239 (June 1, 2021).

⁴ See Cold-Rolled Steel Flat Products from Brazil, China, India, Japan, Republic of Korea, and United Kingdom: Final Results of the Expedited Sunset Reviews of the Antidumping Duty Orders, 86 FR 54924 (October 5, 2021); see also Cold-Rolled Steel Flat Products from India: Final Results of the Expedited Five-Year Sunset Review of the Countervailing Duty Order, 86 FR 54421 (October 1, 2021); and Certain Cold-Rolled Steel Flat Products of Brazil: Final Results of the Expedited First Sunset Review of the Countervailing Duty Order, 87 FR 77 (January 3, 2022).

On August 12, 2022, the ITC published its determination, pursuant to section 751(c) of the Act, that revocation of the AD orders on cold-rolled steel from China, India, Japan, Korea, and the UK, and the AD and CVD orders on cold-rolled steel from India, would be likely to lead to continuation or recurrence of material injury to an industry in the United States within a reasonably foreseeable time, and that revocation of the AD and CVD orders on cold-rolled steel from Brazil would not be likely to lead to continuation or recurrence of material injury within a reasonably foreseeable time.⁵

⁵ See Cold-Rolled Steel Flat Products from Brazil, China, India, Japan, South Korea, and the United Kingdom, 87 FR 49886 (August 12, 2022).

Scope of the Orders: Brazil, India, Korea, the United Kingdom, and China

The products covered by the orders with respect to Brazil, India, Korea, the United Kingdom, and China are certain cold-rolled (cold-reduced), flat-rolled steel products, whether or not annealed, painted, varnished, or coated with plastics or other non-metallic substances. The products covered do not include those that are clad, plated, or coated with metal. The products covered include coils that have a width or other lateral measurement (“width”) of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of this investigation are products in which: (1) iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium

Unless specifically excluded, products are included in this scope regardless of levels of boron and titanium.

For example, specifically included in this scope are vacuum degassed, fully stabilized (commonly referred to as interstitial-free (IF)) steels, high strength low alloy (HSLA) steels, motor lamination steels, Advanced High Strength Steels (AHSS), and Ultra High Strength Steels (UHSS). IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum. AHSS and UHSS are considered high tensile strength and high elongation steels, although AHSS and UHSS are covered whether or not they are high tensile strength or high elongation steels.

Subject merchandise includes cold-rolled steel that has been further processed in a third country, including but not limited to annealing, tempering, painting, varnishing, trimming, cutting, punching, and/or slitting, or any other processing that would not otherwise remove the merchandise from the scope of the Brazil, India, Korea, the United Kingdom, and China orders if performed in the country of manufacture of the cold-rolled steel.

All products that meet the written physical description, and in which the chemistry quantities do not exceed any one of the noted element levels listed above, are within the scope of the Brazil, India, Korea, the United Kingdom, and China orders unless specifically excluded. The following products are outside of and/or specifically excluded from the scope of the Brazil, India, Korea, the United Kingdom, and China orders:

• Ball bearing steels; ⁶

⁶ Ball bearing steels are defined as steels which contain, in addition to iron, each of the following elements by weight in the amount specified: (i) not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ⁷

⁷ Tool steels are defined as steels which contain the following combinations of elements in the quantity by weight respectively indicated: (i) more than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steel; ⁸

⁸ Silico-manganese steel is defined as steels containing by weight: (i) not more than 0.7 percent of carbon; (ii) 0.5 percent or more but not more than 1.9 percent of manganese, and (iii) 0.6 percent or more but not more than 2.3 percent of silicon.

• Grain-oriented electrical steels (GOES) as defined in the final determination of the U.S. Department of Commerce in Grain-Oriented Electrical Steel From Germany, Japan, and Poland.⁹

⁹ See Grain-Oriented Electrical Steel from Germany, Japan, and Poland: Final Determinations of Sales at Less Than Fair Value and Certain Final Affirmative Determination of Critical Circumstances, 79 FR 42501, 42503 (July 22, 2014). This determination defines grain-oriented electrical steel as “a flat-rolled alloy steel product containing by weight at least 0.6 percent but not more than 6 percent of silicon, not more than 0.08 percent of carbon, not more than 1.0 percent of aluminum, and no other element in an amount that would give the steel the characteristics of another alloy steel, in coils or in straight lengths.”

• Non-Oriented Electrical Steels (NOES), as defined in the antidumping orders issued by the U.S. Department of Commerce in Non-Oriented Electrical Steel From the People's Republic of China, Germany, Japan, the Republic of Korea, Sweden, and Taiwan.¹⁰

¹⁰ See Non-Oriented Electrical Steel from the People's Republic of China, Germany, Japan, the Republic of Korea, Sweden, and Taiwan: Antidumping Duty Orders, 79 FR 71741, 71741-42 (December 3, 2014). The orders define NOES as “cold-rolled, flat-rolled, alloy steel products, whether or not in coils, regardless of width, having an actual thickness of 0.20 mm or more, in which the core loss is substantially equal in any direction of magnetization in the plane of the material. The term `substantially equal' means that the cross grain direction of core loss is no more than 1.5 times the straight grain direction (i.e., the rolling direction) of core loss. NOES has a magnetic permeability that does not exceed 1.65 Tesla when tested at a field of 800 A/m (equivalent to 10 Oersteds) along (i.e., parallel to) the rolling direction of the sheet (i.e., B800 value). NOES contains by weight more than 1.00 percent of silicon but less than 3.5 percent of silicon, not more than 0.08 percent of carbon, and not more than 1.5 percent of aluminum. NOES has a surface oxide coating, to which an insulation coating may be applied.”

The products subject to the Brazil, India, Korea, the United Kingdom, and China orders are currently classified in the Harmonized Tariff Schedule of the United States (HTSUS) under item numbers: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050.

The products subject to the Brazil, India, Korea, the United Kingdom, and China orders may also enter under the following HTSUS numbers: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000.

The HTSUS subheadings above are provided for convenience and U.S. Customs purposes only. The written description of the scope of the investigation is dispositive.

Scope of the Order: Japan ¹¹

¹¹ As result of a changed circumstances review, Commerce modified the scope of the order on cold-rolled steel from Japan to specify an exclusion on certain cold-rolled steel from Japan. See Certain Cold-Rolled Steel Flat Products from Japan: Final Results of Changed Circumstances Review, and Revocation of Antidumping Duty Order, in Part, 82 FR 12337 (March 2, 2017); see also See Cold-Rolled Steel Flat Products from Brazil, China, India, Japan, Republic of Korea, and United Kingdom: Final Results of the Expedited Sunset Reviews of the Antidumping Duty Orders, 86 FR 54924 (October 5, 2021), and accompanying Issues and Decision Memorandum at 17, n.73.

The products covered by the order on Japan are certain cold-rolled (cold-reduced), flat-rolled steel products, whether or not annealed, painted, varnished, or coated with plastics or other non-metallic substances. The products covered do not include those that are clad, plated, or coated with metal. The products covered include coils that have a width or other lateral measurement (“width”) of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of this order are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium.

Unless specifically excluded, products are included in this scope regardless of levels of boron and titanium.

For example, specifically included in this scope are vacuum degassed, fully stabilized (commonly referred to as interstitial-free (“IF”)) steels, high strength low alloy (“HSLA”) steels, motor lamination steels, Advanced High Strength Steels (“AHSS”), and Ultra High Strength Steels (“UHSS”). IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum. AHSS and UHSS are considered high tensile strength and high elongation steels, although AHSS and UHSS are covered whether or not they are high tensile strength or high elongation steels.

Subject merchandise includes cold-rolled steel that has been further processed in a third country, including but not limited to annealing, tempering, painting, varnishing, trimming, cutting, punching, and/or slitting, or any other processing that would not otherwise remove the merchandise from the scope of the order if performed in the country of manufacture of the cold-rolled steel.

All products that meet the written physical description, and in which the chemistry quantities do not exceed any one of the noted element levels listed above, are within the scope of this order unless specifically excluded. The following products are outside of and/or specifically excluded from the scope of this order:

• Ball bearing steels; ¹²

¹² Ball bearing steels are defined as steels which contain, in addition to iron, each of the following elements by weight in the amount specified: (i) Not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ¹³

¹³ Tool steels are defined as steels which contain the following combinations of elements in the quantity by weight respectively indicated: (i) More than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steel; ¹⁴

¹⁴ Silico-manganese steel is defined as steels containing by weight: (i) Not more than 0.7 percent of carbon; (ii) 0.5 percent or more but not more than 1.9 percent of manganese, and (iii) 0.6 percent or more but not more than 2.3 percent of silicon.

• Grain-oriented electrical steel (“GOES”) as defined in the final determination of the U.S. Department of Commerce in Grain-Oriented Electrical Steel from Germany, Japan, and Poland.¹⁵

¹⁵ See Grain-Oriented Electrical Steel from Germany, Japan, and Poland: Final Determinations of Sales at Less Than Fair Value and Certain Final Affirmative Determination of Critical Circumstances, 79 FR 42501, 42503 (July 22, 2014) (Grain-Oriented Electrical Steel from Germany, Japan, and Poland). This determination defines grain-oriented electrical steel as “a flat-rolled alloy steel product containing by weight at least 0.6 percent but not more than 6 percent of silicon, not more than 0.08 percent of carbon, not more than 1.0 percent of aluminum, and no other element in an amount that would give the steel the characteristics of another alloy steel, in coils or in straight lengths.”

• Non-Oriented Electrical Steels (“NOES”), as defined in the antidumping orders issued by the U.S. Department of Commerce in Non-Oriented Electrical Steel from the People's Republic of China, Germany, Japan, the Republic of Korea, Sweden, and Taiwan.¹⁶

¹⁶ See Non-Oriented Electrical Steel from the People's Republic of China, Germany, Japan, the Republic of Korea, Sweden, and Taiwan: Antidumping Duty Orders, 79 FR 71741, 71741-71742 (December 3, 2014) (Non-Oriented Electrical Steel from the People's Republic of China, Germany, Japan, the Republic of Korea, Sweden, and Taiwan). The orders define NOES as “cold-rolled, flat-rolled, alloy steel products, whether or not in coils, regardless of width, having an actual thickness of 0.20 mm or more, in which the core loss is substantially equal in any direction of magnetization in the plane of the material. The term `substantially equal' means that the cross grain direction of core loss is no more than 1.5 times the straight grain direction (i.e., the rolling direction) of core loss. NOES has a magnetic permeability that does not exceed 1.65 Tesla when tested at a field of 800 A/m (equivalent to 10 Oersteds) along (i.e., parallel to) the rolling direction of the sheet (i.e., B800 value). NOES contains by weight more than 1.00 percent of silicon but less than 3.5 percent of silicon, not more than 0.08 percent of carbon, and not more than 1.5 percent of aluminum. NOES has a surface oxide coating, to which an insulation coating may be applied.”

Also excluded from the scope of this order is ultra-tempered automotive steel, which is hardened, tempered, surface polished, and meets the following specifications:

• Thickness: Less than or equal to 1.0 mm;

• Width: Less than or equal to 330 mm;

• Chemical composition:

Element | C | Si | Mn | P | S
Weight % | 0.90-1.05 | 0.15-0.35 | 0.30-0.50 | Less than or equal to 0.03 | Less than or equal to 0.006.

Physical properties:

Width less than or equal to 150 mm | Flatness of less than 0.2% of nominal strip width.
Width of 150 to 330 mm | Flatness of less than 5mm of nominal strip width.

• Microstructure: Completely free from decarburization. Carbides are spheroidal and fine within 1% to 4% (area percentage) and are undissolved in the uniform tempered martensite;

• Surface roughness: less than or equal to 0.80 to μm Rz;

• Non-metallic inclusion:

• Sulfide inclusion less than or equal to 0.04% (area percentage);

• Oxide inclusion less than or equal to 0.05% (area percentage); and

• The mill test certificate must demonstrate that the steel is proprietary grade “PK” and specify the following:

• The exact tensile strength, which must be greater than or equal to 1600 N/mm²;

• The exact hardness, which must be greater than or equal to 465 Vickers hardness number;

• The exact elongation, which must be between 2.5% and 9.5%; and

• Certified as having residual compressive stress within a range of 100 to 400 N/mm².

Also excluded from the scope of this order is certain cold-rolled flat-rolled steel meeting the requirements of ASTM A424 Type 1 and having each of the following characteristics:

• Continuous annealed cold-reduced steel in coils with a thickness of between 0.30 mm and 0.36 mm that is in widths either from 875 mm to 940 mm or from 1,168 to 1,232 mm;

• a chemical composition, by weight, of:

Not more than 0.004% carbon;

not more than 0.010% aluminum;

0.006%-0.010% nitrogen;

0.012%-0.030% boron;

0.010%-0.025% oxygen;

less than 0.002% of titanium;

less than 0.002% by weight of vanadium;

less than 0.002% by weight of niobium;

less than 0.002% by weight of antimony;

• a yield strength of from 179.3 MPa to 344.7 MPa;

• a tensile strength of from 303.7 MPa to 413.7 MPa;

• a percent of elongation of from 28% to 46% on a standard ASTM sample with a 5.08 mm gauge length;

• a product shape of flat after annealing, with flat defined as less than or equal to 1 I unit with no coil set as set forth in ASTM A568, Appendix X5 (alternate methods for expressing flatness).

The products subject to this order are currently classified in the Harmonized Tariff Schedule of the United States (“HTSUS”) under item numbers: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050.

The products subject to the order may also enter under the following HTSUS numbers: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000.

The HTSUS subheadings above are provided for convenience and U.S. Customs and Border Protection (CBP) purposes only. The written description of the scope of the order is dispositive.

Continuation of the AD and CVD Orders on Cold-Rolled Steel From China, India, Japan, Korea, and the UK

As a result of the determinations by Commerce and the ITC that revocation of the AD orders on cold-rolled steel from China, India, Japan, Korea, and the UK, and the AD and CVD orders on cold-rolled steel from India would likely lead to continuation or recurrence of dumping, countervailable subsidies, and material injury to an industry in the United States, pursuant to section 751(d)(2) of the Act and 19 CFR 351.218(a), Commerce hereby orders the continuation of the AD orders on cold-rolled steel from China, India, Japan, Korea, and the UK, and the AD and CVD orders on cold-rolled steel from India. U.S. Customs and Border Protection will continue to collect AD and CVD cash deposits at the rates in effect at the time of entry for all imports of subject merchandise.

The effective date of the continuation of the AD orders on cold-rolled steel from China, India, Japan, Korea, and the UK, and the AD and CVD orders on cold-rolled steel from India will be the date of publication in the Federal Register of this notice of continuation. Pursuant to section 751(c)(2) of the Act and 19 CFR 351.218(c)(2), Commerce intends to initiate the next sunset review of the AD orders on cold-rolled steel from China, India, Japan, Korea, and the UK, and the AD and CVD orders on cold-rolled steel from India not later than 30 days prior to the fifth anniversary of the effective date of continuation.

Revocation of the AD and CVD Orders on Cold-Rolled Steel From Brazil

As a result of the determination by the ITC that revocation of the AD and CVD orders on cold-rolled steel from Brazil would not be likely to lead to continuation or recurrence of material injury to an industry in the United States, pursuant to section 751(d)(2) of the Act, 19 CFR 351.222(i)(1)(iii), and 19 CFR 351.218(a), Commerce is revoking the AD and CVD orders on cold-rolled steel from Brazil. Pursuant to section 751(d)(3) of the Act and 19 CFR 351.222(i)(2)(i), the effective date of revocation is September 20, 2021 (i.e., the fifth anniversary of the date of publication in the Federal Register of the notice of the AD and CVD orders).¹⁷

¹⁷ See Orders.

Cash Deposits and Assessment of Duties on Cold-Rolled Steel From Brazil

Commerce intends to notify CBP to terminate the suspension of liquidation and to discontinue the collection of AD and CVD cash deposits on entries of cold-rolled steel from Brazil, entered or withdrawn from warehouse, on or after September 20, 2021. Commerce intends to further instruct CBP to refund with interest all cash deposits on unliquidated entries made on or after September 20, 2021. Entries of subject merchandise prior to the effective date of revocation will continue to be subject to suspension of liquidation and AD and CVD deposit requirements and assessments.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

This five-year sunset review and this notice are in accordance with sections 751(c) and 751(d)(2) of the Act and this notice is published pursuant to section 777(i)(1) of the Act and 19 CFR 351.218(f)(4).

Dated: August 19, 2022.
Lisa W. Wang,
Assistant Secretary for Enforcement and Compliance.

[FR Doc. 2022-18348 Filed 8-24-22; 8:45 am]

BILLING CODE 3510-DS-P